DEPARTMENT OF TRANSPORTATION

Federal Aviation Administration

Agency Information Collection Activities: Requests for Comments; Clearance of Renewed Approval of Information Collection: Aircraft Noise Certification Documents for International Operations

AGENCY: Federal Aviation Administration (FAA), DOT.

ACTION: Notice and request for comments.

SUMMARY: In accordance with the Paperwork Reduction Act of 1995, FAA invites public comments about our intention to request the Office of Management and Budget (OMB) approval to renew a previously approved information collection. This collection ensures that U.S. operators have proper noise certification information when they fly outside the U.S., in compliance with ICAO, Annex 16, Volume 1, Amendment 8.

DATES: Written comments should be submitted by August 18, 2017.

ADDRESSES: Send comments to the FAA at the following address: Ronda Thompson, Federal Aviation Administration, ASP-110, 800 Independence Ave. SW., Washington, DC 20591.

FOR FURTHER INFORMATION CONTACT: Ronda Thompson by email at: Ronda.Thompson@faa.gov; phone: 202-267-1416.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0737.

Title: Aircraft Noise Certification Documents for International Operations.

Form Numbers: There are no FAA forms associated with this collection.

Type of Review: Renewal of an information collection.

Background: 14 CFR part 91 requires operators of U.S. registered civil aircraft flying outside the United States to carry aircraft noise certification information on board. This rule is needed to ensure consistent compliance with the ICAO, Annex 16, Volume 1, Amendment 8 that requires certain noise information be carried on board the aircraft. The rule requires that this information be easily accessible to the flight crew and presentable upon request to the appropriate foreign officials.

Respondents: Approximately 73 operators of aircraft currently registered to U.S. mainline air carriers.

Frequency: On occasion.

Estimated Average Burden per Response: 25 minutes.

Estimated Total Annual Burden: 31 hours.

Issued in Washington, DC, on June 5, 2017.
Ronda L. Thompson,
FAA Information Collection Clearance Officer, Performance, Policy, and Records Management Branch, ASP-110.

[FR Doc. 2017-12686 Filed 6-16-17; 8:45 am]

BILLING CODE 4910-13-P